DEPARTMENT OF VETERANS AFFAIRS

[OMB Control No. 2900-0460]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before March 17, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “OMB Control No. 2900-0460.”

SUPPLEMENTARY INFORMATION: Title: Request for Verification of Employment, VA Form 26-8497.

OMB Control Number: 2900-0460.

Type of Review: Extension of a currently approved collection.

Abstract: VA Form 26-8497 is used by lenders to verify a loan applicant's income and employment information when making guaranteed and insured loans. The VA, however, does not require the exclusive use of this form for verification purposes; any comprehensible form or independent verification would be acceptable, provided all information presently shown on VA Form 26-8497 is provided. The form is also used in processing direct loan cases, offers on acquired properties, and release of liability/substitution of entitlement cases when needed.

An agency may not conduct or sponsor, and a person is not required to respond to a collection of information unless it displays a currently valid OMB control number. The Federal Register Notice with a 60-day comment period soliciting comments on this collection of information was published on September 28, 1999 at page 52372.

Affected Public: Business or other for-profit.

Estimated Annual Burden: 50,000 hours.

Estimated Average Burden Per Respondent: 10 minutes.

Frequency of Response: Generally one time.

Estimated Number of Respondents: 300,000.

Send comments and recommendations concerning any aspect of the information collection to VA's OMB Desk Officer, Allison Eydt, OMB Human Resources and Housing Branch, New Executive Office Building, Room 10235, Washington, DC 20503 (202) 395-4650. Please refer to “OMB Control No. 2900-0460” in any correspondence.

Dated: February 3, 1999.
By direction of the Secretary.
Donald L. Neilson,
Director, Information Management Service.

[FR Doc. 00-3663 Filed 2-15-00; 8:45 am]

BILLING CODE 8320-01-U